COMMITTEE FOR THE IMPLEMENTATION OF TEXTILE AGREEMENTS

Announcement of Import Restraint Limits for Certain Cotton, Wool, Man-Made Fiber, Silk Blend and Other Vegetable Fiber Textiles and Textile Products Produced or Manufactured in Hong Kong; Correction

December 20, 2001

In the letter to the Commissioner of Customs published in the Federal Register on December 5, 2001 (66 FR 63219), on page 63220, 2nd column, in the table listing import restraint limits, categories 331pt. and 631pt. were inadvertently omitted from the list of categories covered under Group II. A letter has been sent to the Commissioner of Customs to add these categories to the categories listed under Group II.

D. Michael Hutchinson,
Acting Chairman, Committee for the Implementation of Textile Agreements.

[FR Doc. 01-31888 Filed 12-27-01; 8:45 am]

BILLING CODE 3510-DR-S